DEPARTMENT OF HOMELAND SECURITY

Coast Guard

[USCG-2010-1050]

National Offshore Safety Advisory Committee

AGENCY: Coast Guard, DHS.

ACTION: Notice of teleconference meeting.

SUMMARY: The Coast Guard is issuing this notice to reschedule the teleconference meeting of the National Offshore Safety Advisory Committee (NOSAC). The teleconference meeting, originally scheduled for Wednesday, January 12, 2011, from 11 a.m. to 12:30 p.m. EST, was cancelled due to telephone dial-in technical difficulties. NOSAC will meet by teleconference to discuss items related to safety of operations and other matters affecting the oil and gas offshore industry. The purpose of this meeting is to review and discuss reports and recommendations received from the two NOSAC subcommittees and to address two new tasks for the Committee. This meeting will be open to the public.

DATES: The teleconference meeting will take place on Wednesday, February 9, 2011, from 11 a.m. to 12:30 p.m. EST. This meeting may close early if all business is finished.

ADDRESSES: The Committee will meet via telephone conference, on February 9, 2011. Public participation is welcome and members of the public wishing to participate may contact Commander P.W. Clark at 202-372-1410, for call-in information, or they may participate in person by coming to Room 5-0622, U.S. Coast Guard Headquarters Building, 2100 Second Street, SW., Washington, DC 20593. As there are a limited number of teleconference lines, public participation will be on a first come basis. Written material and requests to make oral presentations should be sent to Commander P.W. Clark, Designated Federal Officer of NOSAC, Commandant (CG-5224), 2100 Second Street, SW., Stop 7126, Washington, DC 20593-001 or by fax to 202-372-1926 on or before February 7, 2011. Requests to have a copy of your material distributed to each member of the committee should reach the Coast Guard on or before February 1, 2011. This notice and supporting documentation is available in our online docket, USCG-2010-1050, at http://www.regulations.gov. This meeting is re-scheduled from the NOSAC teleconference meeting published in online docket, USCG-2010-1050, and previously scheduled for January 12, 1100 EST.

FOR FURTHER INFORMATION CONTACT: Commander P.W. Clark, Designated Federal Officer (DFO) of NOSAC, or Mr. Kevin Pekarek, Assistant Designated Federal Officer (ADFO), telephone 202-372-1386, fax 202-372-1926.

SUPPLEMENTARY INFORMATION: Notice of this meeting is given under the Federal Advisory Committee Act (FACA), 5 U.S.C. App. (Pub. L. 92-463). NOSAC provides advice and makes recommendations to the Coast Guard on safety and other concerns affecting the offshore oil and gas industry and assists the Coast Guard in formulating U.S. positions for discussion and presentation at the International Maritime Organization (IMO).

Agenda of Meeting

The agenda for the February 9, 2011, Committee meeting is as follows:

(1) Roll call of committee members and the public participating in the teleconference.

(2) Approval of minutes from the November 9, 2010, meeting.

(3) Presentation and discussion of interim reports and recommendations on:

(a) Medical Evacuation of Injured Divers

(b) Marine Portable Quarters

(4) Review and discuss a task statement which requests the Committee review the recommendations from the Mississippi Canyon Block 252 marine casualty investigation and provide safety and environmental improvement recommendations with respect to Coast Guard regulations and policies as appropriate.

(5) Review and discuss a task statement that requests NOSAC review their previous report on recommendations for standards for Offshore Supply Vessels with an International Tonnage Convention tonnage greater than 6000 Gross Tons in light of the recently passed Coast Guard Authorization Act and determine if the recommendations are complete or if additional recommendations should be provided to the Coast Guard for use in the development of regulations for large OSVs.

(6) Period for public comment.

Procedural

The DFO will use the following procedures to facilitate the meeting.

(1) This meeting is open to the public. Please note that the meeting may close early if all business is finished.

(2) Members of the public may make oral presentations during the meeting concerning the matters being discussed. If you would like to make an oral presentation during the teleconference, please notify the DFO listed in the FOR FURTHER INFORMATION CONTACT section above, no later than February 7, 2011. Written material for distribution to Committee members should reach the Coast Guard no later than February 1, 2011.

(3) An individual, whether speaking in a personal or a representative capacity on behalf of an organization, will be limited to a three-minute statement and scheduled on a first-come, first-served basis. If a large number of persons register to present comments, this amount of time may be shortened to provide all registered persons an opportunity to present their comments.

Minutes

Minutes from the meeting will be available for public review and copying 30 days following the meeting at the http://www.fido.gov Web site. The meeting minutes may be accessed via this Web site by using the Committee Search function and searching for the Committee by name or by using the Committee number of “68”. Once you have accessed the Committee page, click on the meetings tab and then the “View” button for the meeting dated January 12, 2011 to access the information for this meeting. Minutes and documents applicable for this meeting can also be found at an alternative site using the following web address: https://homeport.uscg.mil and use these key strokes: Missions>Port and Waterways>Safety Advisory Committee>NOSAC and then use the event key.

Information on Services for Individuals With Disabilities

For information on facilities or services for individuals with disabilities or to request special assistance at the meeting, contact Mr. Kevin Pekarek at 202-372-1386 as soon as possible.

Dated: January 14, 2011.
J.G. Lantz,
Director of Commercial Regulations and Standards.

[FR Doc. 2011-1216 Filed 1-20-11; 8:45 am]

BILLING CODE 9110-04-P